DEPARTMENT OF COMMERCE

International Trade Administration

[A-580-810, A-583-815]

Welded ASTM A-312 Stainless Steel Pipe From South Korea and Taiwan: Continuation of Antidumping Duty Orders

AGENCY: Import Administration, International Trade Administration, Department of Commerce.

SUMMARY: As a result of the determinations by the Department of Commerce (Department) and the U.S. International Trade Commission (ITC) that revocation of the antidumping duty orders on welded ASTM A-312 stainless steel pipe from South Korea (Korea) and Taiwan would likely lead to continuation or recurrence of dumping and material injury to an industry in the United States, the Department is publishing a notice of continuation of these antidumping duty orders.

DATES: Effective Date: December 19, 2011.

FOR FURTHER INFORMATION CONTACT: Jacqueline Arrowsmith or Dana Mermelstein, AD/CVD Operations Office 6, Import Administration, International Trade Administration, U.S. Department of Commerce, 14th Street and Constitution Avenue NW., Washington, DC 20230; telephone: (202) 482-5255 and (202) 482-1391, respectively.

SUPPLEMENTARY INFORMATION:

Background

On December 30, 1992, the Department published the antidumping duty orders on welded ASTM A-312 stainless steel pipe from Korea and Taiwan.¹ On July 1, 2011, the Department published a notice of initiation of its third five-year (sunset) reviews of the antidumping duty orders on welded ASTM A-312 stainless steel pipe from Korea and Taiwan. See Initiation of Five-Year (“Sunset”) Review, 76 FR 38613 (July 1, 2011).

¹ See Antidumping Duty Order and Clarification of Final Determination: Certain Welded Stainless Steel Pipes From Korea, 57 FR 62301 (December 30, 1992), as amended in Notice of Amended Final Determination and Antidumping Duty Order: Certain Welded Stainless Steel Pipe From the Republic of Korea, 60 FR 10064 (February 23, 1995); and Amended Final Determination and Antidumping Duty Order; Certain Welded Stainless Steel Pipe From Taiwan, 57 FR 62300 (December 30, 1992), as amended in Notice of Amended Final Determination and Antidumping Duty Order: Certain Welded Stainless Steel Pipes From Taiwan, 59 FR 6619 (February 11, 1994).

As a result of these sunset reviews, the Department determined that revocation of the antidumping duty orders on welded ASTM A-312 stainless steel pipe from Korea and Taiwan would likely lead to continuation or recurrence of dumping and, therefore, notified the ITC of the magnitude of the margins likely to prevail should these orders be revoked. See Welded ASTM A-312 Stainless Steel Pipe From South Korea and Taiwan: Final Results of Expedited Sunset Reviews of the Antidumping Duty Orders, 76 FR 67673 (November 2, 2011) and accompanying Issues and Decision Memorandum.

On December 7, 2011, the ITC published its determination in the Federal Register, pursuant to section 751(c) of the Tariff Act of 1930, as amended (the Act), that revocation of the antidumping duty orders on subject merchandise would likely lead to a continuation or recurrence of material injury to an industry in the United Sates within a reasonably foreseeable time. See Certain Welded Stainless Steel Pipe From Korea and Taiwan, 76 FR 76437 (December 7, 2011), and USITC Publication 4280 (December 2011), titled Certain Welded Stainless Steel Pipe from Korea and Taiwan (Investigation Nos. 731-TA-540 and 541 (Third Review)).

Scope of the Orders

The merchandise subject to the antidumping duty orders is welded austenitic stainless steel pipe that meets the standards and specifications set forth by the American Society for Testing and Materials (ASTM) for the welded form of chromium-nickel pipe designated ASTM A-312. The merchandise covered by the scope of the orders also includes austenitic welded stainless steel pipes made according to the standards of other nations which are comparable to ASTM A-312.

Welded ASTM A-312 stainless steel pipe is produced by forming stainless steel flat-rolled products into a tubular configuration and welding along the seam. Welded ASTM A-312 stainless steel pipe is a commodity product generally used as a conduit to transmit liquids or gases. Major applications for steel pipe include, but are not limited to, digester lines, blow lines, pharmaceutical lines, petrochemical stock lines, brewery process and transport lines, general food processing lines, automotive paint lines, and paper process machines. Imports of Welded ASTM A-312 stainless steel pipe are currently classifiable under the following Harmonized Tariff Schedule of the United States (HTSUS) subheadings: 7306.40.5005, 7306.40.5015, 7306.40.5040, 7306.40.5062, 7306.40.5064, and 7306.40.5085.² Although these subheadings include both pipes and tubes, the scope of the antidumping duty orders is limited to welded austenitic stainless steel pipes. The HTSUS subheadings are provided for convenience and customs purposes. However, the written description of the scope of the orders is dispositive.

² HTSUS 7306.40.5065 previously listed in the scope of the orders for this product is no longer a valid reporting number, having been replaced by 7306.40.6052 and 7306.40.6054 as of January 1, 1996.

Continuation of the Orders

As a result of the determinations by the Department and the ITC that revocation of the antidumping duty orders would likely lead to continuation or recurrence of dumping and material injury to an industry in the United States, pursuant to section 751(d)(2) of the Act, the Department hereby orders the continuation of the antidumping duty orders on welded ASTM A-312 stainless steel pipe from Korea and Taiwan.

U.S. Customs and Border Protection will continue to collect antidumping duty cash deposits at the rates in effect at the time of entry for all imports of subject merchandise. The effective date of the continuation of these orders will be the date of publication in the Federal Register of this notice of continuation. Pursuant to section 751(c)(2) of the Act, the Department intends to initiate the next sunset reviews of these orders not later than 30 days prior to the fifth anniversary of the effective date of continuation.

These sunset reviews and this notice are in accordance with section 751(c) of the Act and published pursuant to section 777(i)(1) of the Act.

Dated: December 14, 2011.
Paul Piquado,
Assistant Secretary for Import Administration.

[FR Doc. 2011-32521 Filed 12-16-11; 8:45 am]

BILLING CODE 3510-DS-P